DEPARTMENT OF JUSTICE

Office of Juvenile Justice and Delinquency Prevention

[OJP(OJJDP)-1315]

Missing and Exploited Children's Program Proposed Program Plan for Fiscal Year (FY) 2001

AGENCY: Office of Justice Programs, Office of Juvenile Justice and Delinquency Prevention, Justice.

ACTION: Notice of proposed program plan for Missing and Exploited Children's Program for FY 2001.

SUMMARY: The Office of Juvenile Justice and Delinquency Prevention (OJJDP) is publishing its Missing and Exploited Children's Program Proposed Program Plan for FY 2001 and soliciting public comment on the overall plan and priorities. After analyzing the public comments on this Proposed Program Plan, OJJDP will issue its final FY 2001 Missing and Exploited Children's Program Plan.

DATES: Comments must be received on or before July 16, 2001.

ADDRESSES: Comments should be mailed to John J. Wilson, Acting Administrator, Office of Juvenile Justice and Delinquency Prevention, 810 Seventh Street NW., Washington, DC 20531.

FOR FURTHER INFORMATION CONTACT: Ronald C. Laney, Director, Child Protection Division, 202-616-3637. (This is not a toll-free number.)

SUPPLEMENTARY INFORMATION: The Missing and Exploited Children's Program is administered by the Office of Juvenile Justice and Delinquency Prevention (OJJDP). Pursuant to the Juvenile Justice and Delinquency Prevention (JJDP) Act of 1974, as amended, section 406(a)(2), 42 U.S.C. 5776, the Administrator of OJJDP is publishing for public comment a Proposed Program Plan for activities authorized by Title IV of the JJDP Act, the Missing Children's Assistance Act, 42 U.S.C. 5771 et seq., that OJJDP proposes to initiate or continue funding in FY 2001. Taking into consideration comments received on this Proposed Program Plan, the Administrator will develop and publish a Final Program Plan describing the program activities OJJDP intends to fund during FY 2001 using Title IV funds.

Other than solicitations for programs specified by Congress, notices of solicitations for competitive grant applications described in the Final Program Plan will be published in the Federal Register at a later date. No proposals, concept papers, or other types of applications should be submitted in response to this proposed plan.

Background

For the purposes of Title IV, the term “missing children” refers to children who have been abducted by either a family or nonfamily member and includes children who have been abducted within the United States and those who have been abducted from the United States and taken to or illegally retained in a foreign country. The term “child exploitation” refers to any criminal activity that focuses on children as sexual objects and includes sexual abuse, child pornography, and prostitution.

Introduction to the Fiscal Year 2001 Proposed Program Plan

In 1984, Congress enacted the Missing Children's Assistance Act, which established the Missing and Exploited Children's Program (MECP) within OJJDP. Under the Act, OJJDP is responsible for coordinating Federal missing and exploited children activities, providing a national resource center and clearinghouse, and supporting research, training, technical assistance, and demonstration programs to enhance the overall response to missing children and their families.

In FY 2000, OJJDP's Missing and Exploited Children's Program made significant advances in the course of meeting its responsibilities to provide services to children, parents, educators, prosecutors, law enforcement, and other professionals and interested persons working on child safety issues. Some of the notable accomplishments are summarized below.

MECP's Team Hope Program developed and published an informational brochure and doubled its cadre of specially trained parents who help guide families searching for their children. In FY 2000, the program provided advice, mentoring, and information about existing resources to more than 800 families.

OJJDP chairs the Federal Agency Task Force on Missing and Exploited Children as part of its coordination responsibilities. In FY 2000, the task force continued to focus on enhancing and coordinating the Federal response to international child abductions. The task force is developing a parent-to-parent guide, which provides important information to families seeking the return of children abducted to or illegally retained in foreign countries, and a publication to guide law enforcement officers in investigating international parental abductions. Both publications are expected to be available in spring 2001.

In FY 2000, OJJDP's Internet Crimes Against Children Task Force (ICAC Task Force) added 20 new regional task forces and is now providing forensic, investigative, and prevention services in 31 States. Under this program, State and local law enforcement agencies develop multijurisdictional and multiagency responses to online victimization of children. Since this program was developed in 1998, task force agencies have arrested more than 250 offenders, identified hundreds of investigative targets, seized more than 500 computers, provided training to more than 3,800 prosecutors and law enforcement officers, and reached thousands of children, parents, and educators with information about safe online practices for children and teenagers.

In FY 2000, the National Center for Missing and Exploited Children's (NCMEC's) CyberTipline reached the 20,000-report mark and played an increasingly important role in ensuring that reports of suspicious online activity from children, parents, and private citizens were received by the appropriate law enforcement agencies. In partnership with OJJDP, NCMEC hosted a national investigative planning session and provided two week-long policy orientation seminars for the new ICAC Task Forces. NCMEC also expanded its Protecting Children Online training program with a course tailored to the specific needs of State and local prosecutors and provided training for more than 700 law enforcement managers and investigators regarding online crimes against children.

In FY 2000, through a cooperative agreement with Fox Valley Technical College (FVTC), OJJDP provided training or technical assistance to more than 4,500 prosecutors and law enforcement, social services, and health and family services professionals. FVTC integrates current research, state-of-the-art practice and knowledge, and new technologies into courses designed to increase skills and abilities, enhance service coordination and delivery, and improve the investigation and handling of missing and exploited children cases. FVTC also provided specialized technical assistance to State and local practitioners and juvenile justice agencies relating to Internet crimes against children, information sharing, response planning, child protection legislation, and multidisciplinary team development. In FY 2000, FVTC also completed development of a new child fatality investigative course to improve the way child deaths are investigated.

Finally, the Deputy Attorney General participated in the annual Missing Children's Day Ceremony to commemorate America's missing children and to recognize extraordinary efforts by law enforcement officers working to reunite children and their families. The NCMEC Law Enforcement Officer of the Year Award was presented to Captain David Bailey from the Lancaster, Ohio, Police Department.

Fiscal Year 2001 Programs

In FY 2001, OJJDP proposes to continue its concentration on programs that are national in scope and that promote awareness of and enhance the Nation's response to missing and exploited children and their families. While funds are not available for new program initiatives in FY 2001, OJJDP is interested in obtaining input from the field on program and service needs that will assist in its planning for both FY 2001 and future programming.

Continuation Programs

FY 2001 Title IV continuation programs are summarized below. Available funds, implementation sites, and other descriptive information are subject to change based on the plan review process, grantee performance, application quality, fund availability, and other factors. No additional applications will be solicited for any of these programs in FY 2001.

National Resource Center and Clearinghouse

In FY 2001, Congress provided funding to continue and expand the programs, services, and activities of the National Center for Missing and Exploited Children, a national resource center and clearinghouse dedicated to missing and exploited children and their families. As provided in Title IV, the functions of the Center include the following activities:

• Provide a toll-free hotline (1-800-843-5678) where citizens can report investigative leads and parents and other interested individuals can receive information about missing children.

• Provide technical assistance to parents, law enforcement, and other agencies working on missing and exploited children issues.

• Promote information sharing and provide technical assistance by networking with regional nonprofit organizations, State missing children clearinghouses, and law enforcement agencies.

• Develop publications that contain practical, timely information.

• Provide information regarding programs offering free or low-cost transportation services that assist in reuniting children with their families.

In FY 2000, NCMEC's toll-free hotline received approximately 103,000 calls ranging from citizens reporting information about missing children to requests from parents and law enforcement for information and publications. NCMEC also assisted in the recovery of hundreds of children, disseminated millions of missing children photographs, and sponsored a national training workshop for State missing children clearinghouses and relevant nonprofit organizations. NCMEC also assists the State Department in carrying out its Hague Convention responsibilities by processing incoming applications for children abducted to the United States and broadening its efforts to recover American children abducted to foreign countries. Both law enforcement and parents may contact NCMEC for assistance in locating missing children who may have been trafficked. NCMEC also provides general advice and information to parents who need help getting started in the search for a missing child, which may include children trafficked into the sex industry.

In FY 2000, NCMEC continued to perform the national resource center and clearinghouse functions and broadened the Protecting Children Online training program with a new course for prosecutors. NCMEC and the University of New Hampshire also released a research report pertaining to the frequency and prevalence of young people receiving unwanted sexual solicitations or being unwillingly exposed to pornography via the Internet.

Funding will be provided to NCMEC in FY 2001 to continue the functions of the national resource center and clearinghouse and operation of the Jimmy Ryce Law Enforcement Training Center which provides training to improve investigative responses to missing children cases.

Internet Crimes Against Children Regional Task Force Program

In FY 2000, 20 new awards were made to jurisdictions competing to participate in the ICAC Task Force program. The following agencies received regional ICAC Task Force awards: Massachusetts Department of Public Safety; Michigan State Police; Seattle, Washington, Police Department; Utah Office of the Attorney General; Nebraska State Patrol; Connecticut State Police; Maryland State Police; Clark County, Nevada (Las Vegas Metropolitan Police Department); Delaware County, Pennsylvania, Office of Prosecuting Attorney; Knoxville, Tennessee, Police Department; Alabama Department of Public Safety; Cuyahoga County, Ohio Office of Prosecuting Attorney; Hawaii Office of the Attorney General; North Carolina Division of Criminal Investigation; Oklahoma State Bureau of Investigation; Phoenix, Arizona, Police Department; Saint Paul, Minnesota, Police Department; San Diego, California, Police Department; Sedgewick County, Kansas, Sheriff's Department; and the Wyoming Division of Criminal Investigation.

Other FY 2000 ICAC Task Force program activities included partnering with SEARCH Group, Inc., of Sacramento, CA, to develop and deliver a hands-on investigative course and a national 3-day training workshop focusing on emerging technology and its relevance to criminal activities and ICAC investigative efforts. Also in FY 2000, OJJDP introduced the Investigative Satellite Initiative (ISI), which broadens the impact of the ICAC Task Force program by building the forensic and investigative capacities of State and local law enforcement agencies. Under the ISI program, agencies lacking the resources to commit to full-time regional task forces may still acquire OJJDP funds to train and equip local officers to respond to child pornography and cyber-enticement cases.

In FY 2001, OJJDP will continue to fund the 30 regional ICAC Task Forces and plans to make up to 35 new ISI awards.

Missing and Exploited Children Training and Technical Assistance Program

In FY 1998, Fox Valley Technical College (FVTC) was competitively awarded a cooperative agreement to provide training and technical assistance to law enforcement, prosecutors, and health and family services professionals. The purpose of this program is to ensure the provision of up-to-date, practical training and technical assistance to professionals working on missing and exploited children issues. Training focuses on investigative techniques, interview strategies, comprehensive response planning, media relations, case management, and other topics related to missing and exploited children cases.

Under the Missing and Exploited Children Training and Technical Assistance Program, FVTC offers five courses: Child Abuse and Exploitation Investigative Techniques, Child Abuse and Exploitation Team Investigation Process, Child Sexual Exploitation Investigations, Missing and Exploited Children, and Responding to Missing and Abducted Children. FVTC also provides technical assistance and support to the Federal Agency Task Force on Missing and Exploited Children and its related subcommittees; develops documents and publications relating to missing and exploited children; convenes special focus groups or meetings to facilitate communication and problem solving among youth service workers and professionals at the Federal, State, and local levels; and performs special projects as directed by OJJDP. These projects include designing response protocols for missing and exploited children cases, assisting communities to formulate policies and procedures, and reviewing child protection legislation. In FY 2001, FVTC will continue to provide training and technical assistance services related to missing and exploited children issues. No additional applications will be solicited in FY 2001.

Alzheimer's Disease and Related Disorders Association's Safe Return Program

Since FY 1992, OJJDP has awarded funds to the Safe Return Program of the Alzheimer's Disease and Related Disorders Association of Chicago, IL. This program facilitates the identification and safe return of memory-impaired individuals who are at risk of wandering from their homes. In FY 2000, the Safe Return Program increased its registration database to more than 53,000 individuals and assisted in the return of 980 wanderers.

In FY 2001, the program will continue the national registry program and the 24-hour toll-free hotline. In addition, the Safe Return Program will expand training and technical assistance efforts focusing on law enforcement and emergency personnel.

National Crime Information Center (NCIC)

OJJDP proposes to continue to transfer funds to the Department of Justice's Justice Management Division through a reimbursable agreement to continue NCMEC's online access to the Federal Bureau of Investigation's National Crime Information Center's (NCIC's) Wanted and Missing Persons files. The ability to verify NCIC entries, communicate with law enforcement through the Interstate Law Enforcement Telecommunication System, and be notified of life-threatening cases through the NCIC flagging system is crucial to NCMEC's mission of providing advice and technical assistance to law enforcement.

National Incidence Studies of Missing, Abducted, and Thrownaway Children (NISMART 2)

Under the Missing Children's Assistance Act, OJJDP is required to conduct periodic studies of the scope of the problem of missing children in the United States. The first national study was completed in 1988, with results published in 1990. In FY 1995, OJJDP funded NISMART 2, the second national study of missing, abducted, runaway, and thrownaway children in the United States. Temple University received funding in FY 1995 to conduct this study, which builds on the strengths and addresses some of the weaknesses of the initial NISMART study. Temple contracted with the University of New Hampshire Survey Research Laboratory and Westat, Inc., to carry out specific components of the study. The NISMART 2 study is (1) revising and enhancing NISMART 1 definitions, (2) surveying approximately 23,000 households by telephone to determine how many children are missing on an annual basis, (3) surveying law enforcement agencies to determine the annual frequency of child abductions, (4) surveying approximately 10,000 youth by telephone to understand what happens during missing children episodes, (5) interviewing directors of residential facilities and institutions to determine how many residents run away, and (6) analyzing data on thrownaway children from a related survey of community professionals. The findings from this study will provide updated estimates on the number of missing children each year in the United States. Preliminary findings will be available in late 2001, and a final report will be completed in FY 2002. An OJJDP Bulletin documenting the scope of the research, definition revisions, and methodology changes was published in FY 2000.

OJJDP support for NISMART 2 will continue in FY 2001. No additional applications will be solicited in FY 2001.

Parent Resource Support Network (Team Hope)

In FY 1997, OJJDP competitively awarded a cooperative agreement to Public Administration Services (PAS) to develop and maintain a parent support network, known as Team Hope. The goal of this project is to stimulate development of a network of screened and trained parent volunteers to provide assistance and advice to other parents searching for their children.

In FY 2001, PAS will train additional parent volunteers, continue to provide mentoring services to families searching for their missing children, and expand services to parents searching for children abducted to or illegally retained in foreign countries. No additional funding will be provided in FY 2001.

Jimmy Ryce Law Enforcement Training Center Program

In FY 1997, OJJDP, in partnership with NCMEC and the FBI, and under a grant to Fox Valley Technical College, developed and implemented the Jimmy Ryce Law Enforcement Training Center (JRLETC) program. JRLETC offers two law enforcement training tracks that are designed to improve the national investigative response to missing children cases.

JRLETC's Chief Executive Officer (CEO) seminars approach missing children cases from a management perspective and offer information about coordination and communication issues, resource assessment, legal concerns, and policy development for police chiefs and sheriffs. The Responding to Missing and Abducted Children (REMAC) course offers modules focusing on investigative techniques for all aspects of missing children cases. In FY 2000, 424 police chiefs and sheriffs and 409 investigators participated in at least one of the JRLETC programs.

Congress appropriated additional funds in FY 2001 to continue operation of the Jimmy Ryce Law Enforcement Training Center. OJJDP, NCMEC, the FBI, and FVTC will continue to provide training and technical assistance through the JRLETC and the onsite technical assistance program to respond to the numerous requests for assistance from JRLETC graduates.

Under the JRLETC appropriation, OJJDP will award continuation funding to FVTC to support regional REMAC courses, with additional funds supporting NCMEC's CEO seminars and onsite technical assistance program.

Association of Missing and Exploited Children's Organizations

OJJDP provides funds to the Association of Missing and Exploited Children's Organizations (AMECO) to improve—at the State and local levels—the quality, availability, and coordination of services provided to missing and exploited children and their families and to improve the capacity and capabilities of missing children nonprofit organizations. Although many AMECO member agencies serve parents and children who are the victims of domestic abduction, few are trained or equipped to provide specialized services to those involved in international abductions. Until recently, little attention has been given to the need to coordinate with local service providers and expand their services for children and their families.

In FY 2001, OJJDP proposes to provide additional funds to AMECO to hire full-time staff to support the expansion of services for parental abduction cases, provide parent-to-parent mentoring, support bi-annual meetings, and develop and disseminate written protocols, policies, procedures, and standards for nonprofit organizations for both domestic and international parental abduction cases.

No additional applications will be solicited in FY 2001.

National Center on Child Fatality Review

In FY 1997, OJJDP awarded a grant to the National Center on Child Fatality Review (NCCFR) in Los Angeles, CA, to develop State and local uniform reporting definitions and generic child fatality review team protocols for consideration by communities working on enhancing the investigation of child deaths.

NCCFR developed a model for integrating data among the Criminal Justice, Vital Statistics, and Social Services Child Abuse Indices. NCCFR also selected a National Advisory Board, which is composed of representatives from across the country and from relevant disciplines.

In FY 2001, OJJDP will provide continued support to NCCFR to continue its information dissemination and technical assistance activities related to child fatality investigations. No additional applications will be solicited in FY 2001.

Investigative Case Management for Missing Children Homicides

In FY 1993, OJJDP awarded a competitive grant to the Washington State Attorney General's Office (WAGO) to analyze the solvability factors of missing children homicide investigations. During the course of that research, WAGO collected and analyzed the specific characteristics of more than 550 missing child homicide cases. These characteristics were recorded in WAGO's child homicide database.

In FY 2000, WAGO identified additional cases to be included in the database and began the interview data collection process. In FY 2001, OJJDP proposes to continue to provide funding support to WAGO to ensure the vitality and investigative relevance of its child homicide database. This funding will support continued data collection, database maintenance, and case consultation activities. The database information is available to Federal, State, and local law enforcement agencies to help them identify cases with similar characteristics. Law enforcement database inquiries can be made by calling WAGO at 800-345-2793.

No additional funding will be provided in FY 2001.

FBI Child Abduction and Serial Killer Unit

In FY 1997, OJJDP entered into an interagency agreement with the FBI's Child Abduction and Serial Killer Unit (CASKU) to expand research to broaden law enforcement's understanding of homicidal pedophiles' selection and luring of their victims, their planning activities, and their efforts to escape prosecution. This information is being used by the FBI and OJJDP in training and technical assistance programs. FY 2000 activities included refining the interview protocol, identifying incarcerated offenders who met requirements of the research criteria, conducting field tests of the interview protocol, and starting the interviews.

In FY 2001, CASKU will enhance data collection efforts and continue data analysis.

National Child Victimization Conference Support

In FY 2001, OJJDP will provide funding support to national conferences focusing on child abduction, exploitation, and victimization issues. These conferences frequently include workshops on child prostitution. This funding support will include conferences sponsored by the National Children's Advocacy Center, Dallas Police Department and Children's Advocacy Center, the American Professional Society on the Abuse of Children, and the San Diego Child Maltreatment Conference.

Dated: May 9, 2001.
John J. Wilson,
Acting Administrator, Office of Juvenile Justice and Delinquency Prevention.

[FR Doc. 01-12116 Filed 5-14-01; 8:45 am]

BILLING CODE 4410-18-P